DEPARTMENT OF TRANSPORTATION

Federal Aviation Administration

14 CFR Part 39

[Docket No. 99-NM-243-AD; Amendment 39-11990; AD 2000-23-17]

RIN 2120-AA64

Airworthiness Directives; McDonnell Douglas Model MD-11 and MD-11F Series Airplanes

AGENCY: Federal Aviation Administration, DOT.

ACTION: Final rule.

SUMMARY: This amendment supersedes an existing airworthiness directive (AD), applicable to certain McDonnell Douglas Model MD-11 and MD-11F series airplanes, that currently requires opening the circuit breaker of the pneumatic sense line heater tape, installing an inoperative ring, and coiling and stowing the electrical wire to the circuit breaker of the pneumatic sense line heater tape. That AD also provides for an optional inspection, which, if accomplished, constitutes terminating action for deactivation of the pneumatic sense line heater tape. This amendment requires repetitive inspections of the subject area and corrective actions, if necessary, and provides for an optional terminating modification(s) for the repetitive inspection requirements. This amendment is prompted by the FAA's determination that the one-time optional terminating inspection in the existing AD does not adequately detect chafing, electrical arcing, or inadequate clearance of the subject area. The actions specified by this AD are intended to detect and correct such inadequate clearance, which could result in a hole in the fuel feed pipe caused by electrical arcing, and consequent fuel leakage and possible ignition of the fuel vapors.

DATES: Effective December 27, 2000.

The incorporation by reference of certain publications, as listed in the regulations, is approved by the Director of the Federal Register as of December 27, 2000.

The incorporation by reference of McDonnell Douglas Alert Service Bulletin MD11-36A030, dated April 2, 1998, as listed in the regulations, was approved previously by the Director of the Federal Register as of April 28, 1998 (63 FR 20066, April 23, 1998).

ADDRESSES: The service information referenced in this AD may be obtained from Boeing Commercial Aircraft Group, Long Beach Division, 3855 Lakewood Boulevard, Long Beach, California 90846, Attention: Technical Publications Business Administration, Dept. C1-L51 (2-60). This information may be examined at the Federal Aviation Administration (FAA), Transport Airplane Directorate, Rules Docket, 1601 Lind Avenue, SW., Renton, Washington; or at the the FAA, Los Angeles Aircraft Certification Office, 3960 Paramount Boulevard, Lakewood, California; or at the Office of the Federal Register, 800 North Capitol Street, NW., suite 700, Washington, DC.

FOR FURTHER INFORMATION CONTACT: Stephen Kolb, Senior Aerospace Engineer, Propulsion Branch, ANM-140L, FAA, Los Angeles Aircraft Certification Office, 3960 Paramount Boulevard, Lakewood, California 90712; telephone (562) 627-5244; fax (562) 627-5210.

SUPPLEMENTARY INFORMATION: A proposal to amend part 39 of the Federal Aviation Regulations (14 CFR part 39) by superseding AD 98-08-11, amendment 39-10491 (63 FR 20066, April 23, 1998), which is applicable to certain McDonnell Douglas Model MD-11 and MD-11F series airplanes, was published in the Federal Register on July 13, 2000 (65 FR 43265). The action proposed to continue to require opening the circuit breaker of the pneumatic sense line heater tape, installing an inoperative ring, and coiling and stowing the electrical wire to the circuit breaker of the pneumatic sense line heater tape. The action also proposed to require repetitive inspections of the subject area and corrective actions, if necessary, and would provide for an optional terminating modification(s) for the repetitive inspection requirements.

Comments

Interested persons have been afforded an opportunity to participate in the making of this amendment. Due consideration has been given to the single comment received.

The commenter states no objection to the proposed rule.

Conclusion

After careful review of the available data, including the comment noted above, the FAA has determined that air safety and the public interest require the adoption of the rule as proposed.

Cost Impact

There are approximately 174 Model MD-11 and MD-11F series airplanes of the affected design in the worldwide fleet. The FAA estimates that 67 airplanes of U.S. registry will be affected by this AD.

The modification that is currently required by AD 98-08-11, and retained in this AD, takes approximately 1 work hour per airplane to accomplish, at an average labor rate of $60 per work hour. Based on these figures, the cost impact of the currently required actions on U.S. operators is estimated to be $4,020, or $60 per airplane.

The new inspection required by this AD action will take approximately 1 work hour per airplane to accomplish, at an average labor rate of $60 per work hour. Based on these figures, the cost impact of the new inspection required by this AD on U.S. operators is estimated to be $4,020, or $60 per airplane, per inspection cycle.

The cost impact figures discussed above are based on assumptions that no operator has yet accomplished any of the requirements of this AD action, and that no operator would accomplish those actions in the future if this AD were not adopted. The cost impact figures discussed in AD rulemaking actions represent only the time necessary to perform the specific actions actually required by the AD. These figures typically do not include incidental costs, such as the time required to gain access and close up, planning time, or time necessitated by other administrative actions.

Should an operator elect to accomplish the optional terminating action provided by paragraph (d)(1) of this AD, it would take approximately 4 work hours to accomplish, at an average labor rate of $60 per work hour. The cost of required parts would be approximately $4,500 per airplane. Based on these figures, the cost impact of this optional terminating action would be $4,740 per airplane.

Should an operator elect to accomplish the optional terminating action provided by paragraph (d)(2) of this AD, it would take approximately 1 work hour to accomplish, at an average labor rate of $60 per work hour. The cost of required parts would be approximately $50 per airplane. Based on these figures, the cost impact of this optional terminating action would be $110 per airplane.

Should an operator elect to accomplish the optional terminating action provided by paragraph (d)(3) of this AD, it would take approximately 2 work hours to accomplish, at an average labor rate of $60 per work hour. The cost of required parts would be approximately $2,500 per airplane. Based on these figures, the cost impact of this optional terminating action would be $2,620 per airplane.

Should an operator elect to accomplish the optional terminating action provided by paragraph (d)(4) of this AD, it would take approximately 4 work hours to accomplish, at an average labor rate of $60 per work hour. The cost of required parts would be approximately $50 per airplane. Based on these figures, the cost impact of this optional terminating action would be $290 per airplane.

Regulatory Impact

The regulations adopted herein will not have a substantial direct effect on the States, on the relationship between the national Government and the States, or on the distribution of power and responsibilities among the various levels of government. Therefore, it is determined that this final rule does not have federalism implications under Executive Order 13132.

For the reasons discussed above, I certify that this action (1) is not a “significant regulatory action” under Executive Order 12866; (2) is not a “significant rule” under DOT Regulatory Policies and Procedures (44 FR 11034, February 26, 1979); and (3) will not have a significant economic impact, positive or negative, on a substantial number of small entities under the criteria of the Regulatory Flexibility Act. A final evaluation has been prepared for this action and it is contained in the Rules Docket. A copy of it may be obtained from the Rules Docket at the location provided under the caption ADDRESSES.

List of Subjects in 14 CFR Part 39

Air transportation, Aircraft, Aviation safety, Incorporation by reference, Safety.

Adoption of the Amendment

Accordingly, pursuant to the authority delegated to me by the Administrator, the Federal Aviation Administration amends part 39 of the Federal Aviation Regulations (14 CFR part 39) as follows:

PART 39—AIRWORTHINESS DIRECTIVES

1. The authority citation for part 39 continues to read as follows:

Authority: 49 U.S.C. 106(g), 40113, 44701.

§ 39.13 [Amended]

2. Section 39.13 is amended by removing amendment 39-10491 (63 FR 20066, April 23, 1998), and by adding a new airworthiness directive (AD), amendment 39-11990, to read as follows:

2000-23-17 McDonnell Douglas: Amendment 39-11990. Docket 99-NM-243-AD. Supersedes AD 98-08-11, Amendment 39-10491.

Applicability: Model MD-11 and MD-11F series airplanes, having manufacturer's fuselage numbers 0447 through 0552 inclusive, and 0554 through 0620 inclusive; certificated in any category.

Note 1: This AD applies to each airplane identified in the preceding applicability provision, regardless of whether it has been modified, altered, or repaired in the area subject to the requirements of this AD. For airplanes that have been modified, altered, or repaired so that the performance of the requirements of this AD is affected, the owner/operator must request approval for an alternative method of compliance in accordance with paragraph (f) of this AD. The request should include an assessment of the effect of the modification, alteration, or repair on the unsafe condition addressed by this AD; and, if the unsafe condition has not been eliminated, the request should include specific proposed actions to address it.

Compliance: Required as indicated, unless accomplished previously.

To detect and correct inadequate clearance between the fuel feed pipe of the number 2 engine and the pneumatic sense line heater tape, which could result in a hole in the fuel feed pipe caused by electrical arcing, and consequent fuel leakage and possible ignition of the fuel vapors, accomplish the following:

Restatement of Requirements of AD 98-08-11

Modification

(a) Within 7 days after April 28, 1998 (the effective date of AD 98-08-11, amendment 39-10491), open the circuit breaker of the pneumatic sense line heater tape, install an inoperative ring, and coil and stow the electrical wire to the circuit breaker of the pneumatic sense line heater tape, in accordance with Phase 1 of the Accomplishment Instructions of McDonnell Douglas Alert Service Bulletin MD11-36A030, dated April 2, 1998; Revision 01, dated September 28, 1998; Revision 02, dated July 27, 1999; or Revision 03, dated December 14, 1999. Accomplishment of these actions deactivates the pneumatic sense line heater tape.

Note 2: The pneumatic sense line heater tape of the number 2 engine has been deactivated. This deactivation may cause a nuisance shutdown of the bleed air system of the number 2 engine at top of descent.

New Requirements of This AD

Repetitive Inspections

(b) Except as provided in paragraph (d) of this AD, within 6 months after the effective date of this AD, perform a detailed visual inspection to detect chafing, electrical arcing, or inadequate clearance of the pneumatic sense lines and fuel feed pipe of the number 2 engine, in accordance with Phase 2 of the Accomplishment Instructions of McDonnell Douglas Alert Service Bulletin MD11-36A030, Revision 03, dated December 14, 1999. Repeat the inspection thereafter at intervals not to exceed 5,000 flight hours or 18 months, whichever occurs later. Accomplishment of the detailed visual inspection constitutes terminating action for the deactivation requirements of paragraph (a) of this AD.

Note 3: For the purposes of this AD, a detailed visual inspection is defined as: “An intensive visual examination of a specific structural area, system, installation, or assembly to detect damage, failure, or irregularity. Available lighting is normally supplemented with a direct source of good lighting at intensity deemed appropriate by the inspector. Inspection aids such as mirror, magnifying lenses, etc. may be used. Surface cleaning and elaborate access procedures may be required.”

Note 4: Detailed visual inspections accomplished before the effective date of this AD in accordance with McDonnell Douglas Alert Service Bulletin MD11-36A030, dated April 2, 1998, Revision 01, dated September 28, 1998, or Revision 02, dated July 27, 1999; are considered acceptable for compliance with the requirements of paragraph (b) of this AD.

Corrective Actions

(c) If any discrepancy (i.e., as identified in Conditions 1, 2, 3, 4, and 5 of the Accomplishment Instructions of McDonnell Douglas Alert Service Bulletin MD11-36A030, Revision 03, dated December 14, 1999) is detected during any inspection required by paragraph (b) of this AD, before further flight, perform the applicable corrective actions in accordance with Conditions 1, 2, 3, 4, or 5 of the Accomplishment Instructions of McDonnell Douglas Alert Service Bulletin MD11-36A030, Revision 03, dated December 14, 1999, except as indicated in paragraphs (c)(1) and (c)(2) of this AD.

(1) Accomplishment of the modification of the high stage pilot valve of the left and right wings in accordance with McDonnell Douglas Service Bulletin MD11-36-018 R01, Revision 1, dated July 18, 1995, is NOT necessary to comply with the applicable corrective action in Condition 5 of the Accomplishment Instructions of the service bulletin.

(2) Accomplishment of the modification and reidentification of the pilot pressure regulator valve of the left and right wings in accordance with McDonnell Douglas Service Bulletin MD11-36-025 R01, Revision 01, dated July 31, 1997, is NOT necessary to comply with the applicable corrective action in Condition 5 of the Accomplishment Instructions of the service bulletin.

Optional Actions

(d) Accomplishment of the action(s) specified in paragraphs (d)(1), (d)(2), (d)(3), and (d)(4) of this AD, as applicable, constitutes terminating action for the repetitive inspection requirements of paragraph (b) of this AD.

(1) For airplanes having manufacturer's fuselage numbers 0447 through 0552 inclusive, and 0554 through 0573 inclusive: Before or in conjunction with the actions specified in paragraph (d)(2) of this AD, modify the high stage pilot valve located in the aft accessory compartment (including purging the sense lines and revising wiring of the high stage pilot valve), in accordance with McDonnell Douglas Service Bulletin MD11-36-018 R01, Revision 1, dated July 18, 1995.

Note 5: In addition to the procedures for modification of the high stage pilot valve located in the aft accessory compartment, McDonnell Douglas Service Bulletin MD11-36-018 R01, Revision 1, dated July 18, 1995, also describes procedures for modification of the high stage pilot valve of the left and right wings. Accomplishment of modification of the high stage pilot valve of the left and right wings is NOT necessary to comply with the optional action provided by paragraph (d)(1) of this AD.

Note 6: Modification of the high stage pilot valve of the aft accessory compartment accomplished before the effective date of this AD in accordance with McDonnell Douglas Service Bulletin MD11-36-018, dated March 28, 1995, is considered acceptable for compliance with the actions specified in paragraph (d)(1) of this AD.

(2) For airplanes having manufacturer's fuselage numbers 0447 through 0552 inclusive, and 0554 through 0608 inclusive: Disconnect and splice together the heater tape wires of the pneumatic sense lines for the high stage and fan air valves from the terminals strips in the lower vertical stabilizer, in accordance with McDonnell Douglas Service Bulletin MD11-36-026, dated September 30, 1996.

(3) For airplanes having manufacturer's fuselage numbers 0447 through 0552 inclusive, and 0554 through 0608 inclusive: Before or in conjunction with the actions specified in paragraph (d)(4) of this AD, modify and reidentify the pilot pressure regulator valve located in the aft accessory compartment (including purging the sense lines and revising the wiring of the pilot pressure regulator valve), in accordance with McDonnell Douglas Service Bulletin MD11-36-025 R01, Revision 01, dated July 31, 1997.

Note 7: In addition to the procedures for modification and reidentification of the pilot pressure regulator valve located in the aft accessory compartment, McDonnell Douglas Service Bulletin MD11-36-025 R01, Revision 01, dated July 31, 1997, also describes procedures for modification and reidentification of the pilot pressure regulator valve of the left and right wings. Accomplishment of the modification and reidentification of the pilot pressure regulator valve of the left and right wings is NOT necessary to comply with the optional action provided by paragraph (d)(3) of this AD.

Note 8: Modification and reidentification of the pilot pressure regulator valve of the aft accessory compartment accomplished before the effective date of this AD in accordance with McDonnell Douglas Service Bulletin MD11-36-025, dated February 14, 1997; is considered acceptable for compliance with the actions specified in paragraph (d)(3) of this AD.

(4) For airplanes having manufacturer's fuselage numbers 0447 through 0464 inclusive, 0466 through 0552 inclusive, and 0554 through 0620 inclusive: Disconnect the heater tape wires from their respective terminal strips and splice the wire ends together, in accordance with McDonnell Douglas Service Bulletin MD11-36-028, dated December 7, 1998.

Reporting

(e) Within 10 days after accomplishing any inspection required by paragraph (b) of this AD, submit a report of the inspection results (only negative findings) to the Manager, Los Angeles Aircraft Certification Office (ACO), FAA, 3960 Paramount Boulevard, Lakewood, California 90712-4137; fax (562) 627-5210. Information collection requirements contained in this regulation have been approved by the Office of Management and Budget (OMB) under the provisions of the Paperwork Reduction Act of 1980 (44 U.S.C. 3501 et seq.) and have been assigned OMB Control Number 2120-0056.

Alternative Methods of Compliance

(f) An alternative method of compliance or adjustment of the compliance time that provides an acceptable level of safety may be used if approved by the Manager, Los Angeles ACO. Operators shall submit their requests through an appropriate FAA Principal Maintenance Inspector, who may add comments and then send it to the Manager, Los Angeles ACO.

Note 9: Information concerning the existence of approved alternative methods of compliance with this AD, if any, may be obtained from the Los Angeles ACO.

Special Flight Permits

(g) Special flight permits may be issued in accordance with sections 21.197 and 21.199 of the Federal Aviation Regulations (14 CFR 21.197 and 21.199) to operate the airplane to a location where the requirements of this AD can be accomplished.

Incorporation by Reference

(h) The actions shall be done in accordance with McDonnell Douglas Alert Service Bulletin MD11-36A030, dated April 2, 1998; McDonnell Douglas Alert Service Bulletin MD11-36A030, Revision 01, dated September 28, 1998; McDonnell Douglas Alert Service Bulletin MD11-36A030, Revision 02, dated July 27, 1999; McDonnell Douglas Alert Service Bulletin MD11-36A030, Revision 03, dated December 14, 1999; McDonnell Douglas Service Bulletin MD11-36-018 R01, Revision 1, dated July 18, 1995; McDonnell Douglas Service Bulletin MD11-36-026, dated September 30, 1996; McDonnell Douglas Service Bulletin MD11-36-025 R01, Revision 01, dated July 31, 1997; and McDonnell Douglas Service Bulletin MD11-36-028, dated December 7, 1998; as applicable.

(1) The incorporation by reference of McDonnell Douglas Alert Service Bulletin MD11-36A030, Revision 01, dated September 28, 1998; McDonnell Douglas Alert Service Bulletin MD11-36A030, Revision 02, dated July 27, 1999; McDonnell Douglas Alert Service Bulletin MD11-36A030, Revision 03, dated December 14, 1999; McDonnell Douglas Service Bulletin MD11-36-018 R01, Revision 1, dated July 18, 1995; McDonnell Douglas Service Bulletin MD11-36-026, dated September 30, 1996; McDonnell Douglas Service Bulletin MD11-36-025 R01, Revision 01, dated July 31, 1997; and McDonnell Douglas Service Bulletin MD11-36-028, dated December 7, 1998; is approved by the Director of the Federal Register in accordance with 5 U.S.C. 552(a) and 1 CFR part 51.

(2) The incorporation by reference of McDonnell Douglas Alert Service Bulletin MD11-36A030, dated April 2, 1998, was approved previously by the Director of the Federal Register as of April 28, 1998 (63 FR 20066, April 23, 1998).

(3) Copies may be obtained from Boeing Commercial Aircraft Group, Long Beach Division, 3855 Lakewood Boulevard, Long Beach, California 90846, Attention: Technical Publications Business Administration, Dept. C1-L51 (2-60). Copies may be inspected at FAA, Transport Airplane Directorate, 1601 Lind Avenue, SW., Renton, Washington; or at the the FAA, Los Angeles Aircraft Certification Office, 3960 Paramount Boulevard, Lakewood, California; or at the Office of the Federal Register, 800 North Capitol Street, NW., suite 700, Washington, DC.

Effective Date

(i) This amendment becomes effective on December 27, 2000.

Issued in Renton, Washington, on November 9, 2000.
Donald L. Riggin,
Acting Manager, Transport Airplane Directorate, Aircraft Certification Service.

[FR Doc. 00-29377 Filed 11-21-00; 8:45 am]

BILLING CODE 4910-13-P